DEPARTMENT OF THE TREASURY

Submission for OMB Review; Comment Request

January 2, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 11, 2002, to be assured of consideration.

Financial Crimes Enforcement Network (FinCEN)

OMB Number: 1506-0008.

Regulation Parts: 31 CFR 103.33.

Type of Review: Extension.

Title: Conditional Exception to the Application of 31 CFR 103.33(g).

Description: FinCEN Notice 1998-1 provides two conditional exceptions to the information requirements of 31 CFR 103.33(g) (the “Travel Rule”). Banks and brokers and dealers in securities would use the exceptions.

Respondents: Business or other for-profit.

Estimated Number of Respondents/Recordkeepers: 5,000.

Estimated Burden Hours Per Respondent/Recordkeeper:

Reporting—3 minutes

Recordkeeping—15 minutes

Frequency of Response: On occasion.

Estimated Total Reporting/Recordkeeping Burden: 1,500 hours.

Clearance Officer: Lois K. Holland, Departmental Offices, Room 2110, 1425 New York Avenue, NW., Washington, DC 20220, (202) 622-1563.

OMB Reviewer: Alexander T. Hunt, Office of Management and Budget, Room 10202, New Executive Office Building, Washington, DC 20503, (202) 395-7860.

Mary A. Able,
Departmental Reports Management Officer.

[FR Doc. 02-566 Filed 1-9-02; 8:45 am]

BILLING CODE 4810-31-P